DEPARTMENT OF ENERGY

Federal Energy Regulatory Commission

Notice of Staff Attendance at North American Electric Reliability Corporation Reliability and Security Technical Committee Meetings

The Federal Energy Regulatory Commission hereby gives notice that members of the Commission staff may attend the following meetings:

North American Electric Reliability Corporation Reliability and Security Technical Committee Virtual Meetings on:

December 6 (11 a.m.-4:30 p.m. eastern time) and December 7 (11 a.m.-4:30 p.m. eastern time), 2022

Further information regarding these meetings may be found at: http://www.nerc.com/Pages/Calendar.aspx.

The discussions at the meetings, which are open to the public, may address matters at issue in the following Commission proceeding:

Docket No. RD22-4-000 Registration of Inverter-Based Resources

For further information, please contact Jonathan First, 202-502-8529, or jonathan.first@ferc.gov.

Dated: November 28, 2022.
Debbie-Anne A. Reese,
Deputy Secretary.

[FR Doc. 2022-26264 Filed 12-1-22; 8:45 am]

BILLING CODE 6717-01-P